DEPARTMENT OF DEFENSE

Department of Air Force

[Docket ID: USAF-2008-0050]

Privacy Act of 1974; System of Records

AGENCY: Department of Air Force.

ACTION: Notice to amend a system of records.

SUMMARY: The Department of Air Force proposes to amend a system of records to its inventory of record systems subject to the Privacy Act of 1974 (5 U.S.C. 552a), as amended.

DATES: The changes will be effective on January 21, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: December 16, 2008.
Morgan E. Frazier,
Alternate OSD Federal Register Liaison Officer, Department of Defense.

FO 33 AFRC A

System name:

Reserve Participation Management Systems (March 7, 2007, 72 FR 10185).

Changes:

* * * * *

System name:

Delete entry and replace with “Reserve Participation Management System Records.”

Categories of individuals covered by the system:

Delete entry and replace with “Air Force Reservist and Individual Mobilization Augmentees (IMAs), as well as other Air Force or Air Force Reserve military and civilian personnel that require access.”

Categories of records in the system:

Delete entry and replace with “Full name, Social Security Number (SSN), address, organization name, e-mail address, skills, biography, assignment history, duty types and dates.”

Authority for maintenance of the system:

Delete entry and replace with “10 U.S.C. 8013, Secretary of the Air Force; 10 U.S.C. 10204, Personal Records; Air Force Policy Directive 36-26, Military Force Management; and E.O. 9397 (SSN).”

Purpose(s):

Delete entry and replace with “To assist officials and employees of the Air Force Reserve, and other Air Force officials, who have official duties related to the management, supervision, and administration of Air Force Reserve personnel, and/or in the operation of personnel affairs and functions related to Air Force Reserve members.”

* * * * *

System manager(s) and address:

Delete entry and replace with “Department of the Air Force, ReserveNet Program Manager, Headquarters United States Air Force Reserve Command (AFRC), Building 210, 155 Richard Ray Blvd., Robins AFB, GA 31098-1635.”

Notification procedure:

Delete entry and replace with “Individuals seeking to determine whether information about themselves is contained in this system should address written inquiries to Headquarters, United States Air Force Reserve Command, HQ AFRC/A6NS, Communications Directorate, Building 210, 155 Richard Ray Blvd., Robins AFB, GA 31098-1635.

Written request should include full name, address, Social Security Number (SSN) and signature.”

Record access procedures:

Delete entry and replace with “To determine whether this system contains information on themselves individuals should address written inquiries to Headquarters, United States Air Force Reserve Command, HQ AFRC/A6NS, Communications Directorate, Building 210, 155 Richard Ray Blvd., Robins AFB, GA 31098-1635.

Written request should include full name, address, Social Security Number (SSN) and signature.”

* * * * *

F0 33 AFRC A

System name:

Reserve Participation Management System Records.

System location:

Headquarters, United States Air Force Reserve Command (AFRC), 155 Richard Ray Blvd., Building 210, Robins AFB, GA 31098-1635.

Categories of individuals covered by the system:

Air Force Reservist and Individual Mobilization Augmentees (IMAs), as well as other Air Force or Air Force Reserve military and civilian personnel that require access.

Categories of records in the system:

Full name, Social Security Number (SSN), address, organization name, e-mail address, skills, biography, assignment history, duty types and dates.

Authority for maintenance of the system:

10 U.S.C. 8013, Secretary of the Air Force; 10 U.S.C. 10204, Personal Records; Air Force Policy Directive 36-26, Military Force Management; and E.O. 9397 (SSN).

Purpose(s):

To assist officials and employees of the Air Force Reserve, and other Air Force officials, who have official duties related to the management, supervision, and administration of Air Force Reserve personnel, and/or in the operation of personnel affairs and functions related to Air Force Reserve members.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The DoD `Blanket Routine Uses' published at the beginning of the Air Force's compilation of systems of records notices apply to this system.

Polices and practices for storing, retrieving, accessing, retaining, and disposing of records in the system:

Storage:

Electronic storage media.

Retrievability:

Records are retrieved by name and Social Security Number (SSN).

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and disposal:

Data stored digitally is retained until a member leaves the Air Force Reserve. Non-active data records are digitally archived within the system until it is determined it can be disposed of.

System manager(s) and address:

Department of the Air Force, ReserveNet Program Manager, Headquarters United States Air Force Reserve Command (AFRC), Building 210, 155 Richard Ray Blvd., Robins AFB, GA 31098-1635.

Notification procedure:

Individuals seeking to determine whether information about themselves is contained in this system should address written inquiries to Headquarters, United States Air Force Reserve Command, HQ AFRC/A6NS, Communications Directorate, Building 210, 155 Richard Ray Blvd., Robins AFB, GA 31098-1635.

Written request should include full name, address, Social Security Number (SSN) and signature.

Record access procedures:

To determine whether this system contains information on themselves individuals should address written inquiries to Headquarters, United States Air Force Reserve Command, HQ AFRC/A6NS, Communications Directorate, Building 210, 155 Richard Ray Blvd., Robins AFB, GA 31098-1635.

Written request should include full name, address, Social Security Number (SSN) and signature.

Contesting records procedures:

The Air Force rules for accessing records and for contesting and appealing initial agency determinations are published in AFI 33-332; 32 CFR Part 806b; or may be obtained from the system manager.

Record source categories:

Information is obtained from individuals or authorized Air Force/DoD automated systems such as the Military Personnel Data System (MILPDS), the Air Force Fitness Management System, and the Preventive Heath Assessment.

Exemptions claimed for the system:

None.

[FR Doc. E8-30416 Filed 12-19-08; 8:45 am]

BILLING CODE 5001-06-P